DEPARTMENT OF AGRICULTURE

Forest Service

Tongass National Forest, Thorne Bay Ranger District, Thorne Bay, AK

AGENCY: Forest Service, USDA.

ACTION: Cancellation of Notice of intent to prepare an Environmental Impact Statement published in the Federal Register on April 3, 2000 (page 17482).

SUMMARY: The Department of Agriculture, Forest Service is issuing this notice to advise the public that we are canceling the Notice of Intent (NOI) to prepare Kosciusko Island Timber Sale Environmental Impact Statement (EIS) to assess and disclose the environmental effects of timber harvest and road building to provide timber for the Tongass National Forest Timber Sale Program.

FOR FURTHER INFORMATION CONTACT: Frank Roberts, Zone Planner, Thorne Bay Ranger District, Tongass National Forest, P.O. Box 19001, Thorne Bay, AK 99919, telephone: 907-828-3250.

SUPPLEMENTARY INFORMATION: The 47,007-acre Kosciusko Project Area is located approximately 48 air miles northwest of Thome Bay, Alaska. A Draft Environmental Impact Statement for this project was published in 1993.

Dated: February 16, 2010.
Forrest Cole,
Forest Supervisor, Tongass National Forest.

[FR Doc. 2010-3517 Filed 2-23-10; 8:45 am]

BILLING CODE 3410-GM-M